DEPARTMENT OF COMMERCE

National Institute of Standards And Technology

Manufacturing Extension Partnership National Advisory Board

AGENCY: National Institute of Standards and Technology, Department of Commerce.

ACTION: Notice of partially closed meeting.

SUMMARY: Pursuant to the Federal Advisory Committee Act, 5 U.S.C. app. 2, notice is hereby given that the Manufacturing Extension Partnership National Advisory Board (MEPNAB), National Institute of Standards and Technology (NIST), will meet Thursday, January 17, 2002, from 8:00 a.m. to 3:30 p.m. The MEPNAB is composed of nine members appointed by the Director of NIST who were selected for their expertise in the area of industrial extension and their work on behalf of smaller manufacturers. The Board was established to fill a need for outside input on MEP. MEP is a unique program consisting of centers in all 50 states and Puerto Rico. The centers have been created by state, federal, and local partnerships. The Board works closely with MEP to provide input and advice on MEP's programs, plans, and policies. The purpose of this meeting is to hear about latest developments, status of plans for 2002 and the logic, background, progress and goals of the 360vu brand. There will also be a presentation on findings from a technology extension pilot partnering. Discussions scheduled to begin at 8:00 a.m. and to end at 9:30 a.m. and to begin at 2:30 p.m. and to end at 3:30 p.m. on January 17, 2002, on personnel issues and proprietary budget information will be closed.

DATES: The meeting will convene January 17, 2002 at 8:00 a.m. and will adjourn at 3:30 p.m. on January 17, 2002.

ADDRESSES: The meeting will be held in the Employees Lounge, Administration Building, at NIST, Gaithersburg, Maryland.

FOR FURTHER INFORMATION CONTACT: Linda Acierto, Senior Policy Advisor, Manufacturing Extension Partnership, National Institute of Standards and Technology, Gaithersburg, MD 20899-4800, telephone number (301) 975-5033.

SUPPLEMENTARY INFORMATION: The Assistant Secretary for Administration with the concurrence of the General Counsel formally determined on January 3, 2002, that portions of the meeting which involve discussion of proposed funding of the MEP may be closed in accordance with 5 U.S.C. 552b(c)(9)(B), because that portion will divulge matters the premature disclosure of which would be likely to significantly frustrate implementation of proposed agency actions; and that portions of the meeting which involve discussion of the staffing of positions in MEP may be closed in accordance with 5 U.S.C. 552b(c)(6), because divulging information discussed in that portion of the meeting is likely to reveal information of a personal nature, where disclosure would constitute a clearly unwarranted invasion of personal privacy.

Dated: January 3, 2002.
Karen H. Brown,
Deputy Director.

[FR Doc. 02-428 Filed 1-4-02; 8:45 am]

BILLING CODE 3510-13-P